OFFICE OF PERSONNEL MANAGEMENT

Excepted Service

AGENCY: Office of Personnel Management (OPM).

ACTION: Notice.

SUMMARY: This notice identifies Schedule A, B, and C appointing authorities applicable to a single agency that were established, modified, or revoked from June 1, 2023, to June 30, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but OPM publishes a notice of agency-specific authorities established or revoked each month in the Federal Register at https://www.govinfo.gov/. OPM also publishes an annual notice of the consolidated listing of all Schedule A, B, and C appointing authorities, current as of June 30, in the Federal Register.

Below are the Schedule A, B, and C appointing authorities applicable to a single agency that were established, modified, or revoked from June 1, 2023, to June 30, 2023.

Schedule A

No Schedule A Authorities to report during June 2023.

Schedule B

No Schedule B Authorities to report during June 2023.

Schedule C

The following Schedule C appointing authorities were approved during June 2023.

Agency name | Organization name | Position title | Authorization No. | Effective date
DEPARTMENT OF AGRICULTURE | Rural Housing Service | Chief of Staff | DA230111 | 06/01/2023
| Office of the Assistant Secretary for Congressional Relations | Chief of Staff | DA230112 | 06/01/2023
| Natural Resources Conservation Service | Senior Advisor | DA230113 | 06/01/2023
| Office of the Under Secretary for Rural Development | Senior Advisor for Rural Engagement Delivery and Prosperity | DA230114 | 06/01/2023
| Office of the Secretary | Deputy White House Liaison | DA230118 | 06/20/2023
| Office of the Deputy Secretary | Special Advisor | DA230120 | 06/20/2023
DEPARTMENT OF COMMERCE | Director General of the United States and Foreign Commercial Service and Assistant Secretary for Global Markets | Director of Communications and Outreach | DC230142 | 06/01/2023
| International Trade Administration | Legislative Specialist Communications Specialist | DC230145 DC230147 | 06/01/2023 06/16/2023
| National Oceanic and Atmospheric Administration | Senior Advisor | DC230148 | 06/16/2023
| National Telecommunications and Information Administration | Deputy Director of Congressional Affairs | DC230144 | 06/01/2023
| Office of Policy and Strategic Planning | Senior Policy Advisor | DC230143 | 06/01/2023
DEPARTMENT OF DEFENSE | Office of the Secretary of Defense | Advance Officer | DD230167 | 06/21/2023
DEPARTMENT OF THE ARMY | Office of Assistant Secretary Army (Manpower and Reserve Affairs) | Special Assistant to the Assistant Secretary of the Army (Manpower and Reserve Affairs) | DW230026 | 06/09/2023
DEPARTMENT OF EDUCATION | Office of Communications and Outreach | Press Secretary, K-12 | DB230088 | 06/01/2023
| Office of Legislation and Congressional Affairs | Principal Advisor for Legislative Affairs | DB230093 | 06/01/2023
| Office of the General Counsel | Senior Counsel | DB230090 | 06/26/2023
DEPARTMENT OF ENERGY | Office of Management | Director of Scheduling | DE230120 | 06/14/2023
| Office of the Assistant Secretary for Energy Efficiency and Renewable Energy | Special Assistant | DE230121 | 06/14/2023
| Office of the Assistant Secretary for Congressional and Intergovernmental Affairs | Regional Intergovernmental and External Affairs Specialist for the Midwest | DE230122 | 06/14/2023
ENVIRONMENTAL PROTECTION AGENCY | Office of Public Engagement and Environmental Education | Public Engagement Specialist | EP230096 | 06/01/2023
| Office of the Administrator | Scheduler Deputy Director of Scheduling | EP230098 EP230105 | 06/08/2023 06/27/2023
| Office of the General Counsel | Attorney-Advisor (General) | EP230106 | 06/27/2023
DEPARTMENT OF HEALTH AND HUMAN SERVICES | Office of the Assistant Secretary for Public Affairs | Senior Advisor | DH230208 | 06/01/2023
| Office of Refugee Resettlement/Office of the Director | Senior Advisor | DH230201 | 06/02/2023
| Office of the Assistant Secretary for Preparedness and Response | Senior Advisor Strategic Advisor for Communications | DH230211 DH230212 | 06/28/2023 06/28/2023
| Office of the Secretary | Senior Policy Advisor | DH230214 | 06/28/2023
| Federal Emergency Management Agency | Director of Legislative Affairs | DM230255 | 06/01/2023
DEPARTMENT OF HOMELAND SECURITY | Office of the Secretary | Scheduler to the Secretary | DM230265 | 06/01/2023
DEPARTMENT OF HOUSING AND URBAN DEVELOPMENT | Office of the Secretary Office of the Deputy Secretary | Deputy White House Liaison Special Advisor | DU230063 DU230064 | 06/20/2023 06/20/2023
| Office of Field Policy and Management | Special Advisor | DU230058 | 06/29/2023
DEPARTMENT OF THE INTERIOR | Secretary's Immediate Office | Senior Advisor for Infrastructure Strategy | DI230073 | 06/09/2023
DEPARTMENT OF JUSTICE | Community Relations Service | Senior Advisor | DJ230094 | 06/20/2023
| Office of Legal Policy | Counsel and Advisor to the Assistant Attorney General | DJ230097 | 06/20/2023
| Office of the Associate Attorney General | Deputy Chief of Staff and Senior Counsel | DJ230102 | 06/20/2023
| Office of Legislative Affairs | Counsel Advisor | DJ230096 DJ230117 | 06/29/2023 06/29/2023
| Office of the Deputy Attorney General | Special Assistant (2) | DJ230107 DJ230108 | 06/29/2023 06/29/2023
DEPARTMENT OF LABOR | Office of the Secretary | Chief of Staff | DL230074 | 06/02/2023
| Department of Labor | Press Secretary and Communications Advisor | DL230076 | 06/15/2023
NATIONAL ENDOWMENT FOR THE ARTS | National Endowment for the Arts | Special Projects Manager and Assistant to the Senior Deputy Chair | NA230004 | 06/28/2023
OFFICE OF MANAGEMENT AND BUDGET | Office of the Director Office of Information and Regulatory Affairs | Advisor Counselor | BO230024 BO230036 | 06/01/2023 06/13/2023
| Office of the Communications | Deputy Associate Director for Communications | BO230033 | 06/23/2023
OFFICE OF NATIONAL DRUG CONTROL POLICY | Office of National Drug Control Policy | Public Affairs Specialist (Deputy Press Secretary) | QQ230010 | 06/01/2023
OFFICE OF PERSONNEL MANAGEMENT | Office of the Director | Executive Assistant to the Director | PM230044 | 06/13/2023
| Office of Communications | Public Affairs Specialist (Deputy Press Secretary) | PM230046 | 06/13/2023
SMALL BUSINESS ADMINISTRATION | Office of Communications and Public Liaison | Press Secretary | SB230030 | 06/08/2023
| Office of the Administrator | Director of Advance | SB230032 | 06/30/2023
DEPARTMENT OF STATE | Office of the Chief of Protocol | Assistant Chief of Protocol (Diplomatic Partnerships) | DS230138 | 06/29/2023
DEPARTMENT OF TRANSPORTATION | Office of the Deputy Secretary Office of the Assistant Secretary for Governmental Affairs | Deputy Director for Operations Deputy Assistant Secretary for Congressional Affairs (Senate) | DT230092 DT230099 | 06/02/2023 06/09/2023
| Office of the General Counsel | Special Counsel for Oversight | DT230096 | 06/12/2023
| Office of the Secretary | Special Assistant for Advance (2) | DT230106 DT230108 | 06/27/2023 06/27/2023
DEPARTMENT OF THE TREASURY | Office of the Assistant Secretary (Public Affairs) | Press Assistant | DY230123 | 06/15/2023
| Secretary of the Treasury | Scheduling and Advance Associate | DY230121 | 06/09/2023
|  | Deputy White House Liaison | DY230129 | 06/15/2023
|  | Special Advisor | DY230118 | 06/20/2023
UNITED STATES INTERNATIONAL TRADE COMMISSION | Office of Commissioner Kearns | Staff Assistant (Economist) | TC230001 | 06/02/2023
DEPARTMENT OF VETERANS AFFAIRS | Veterans Experience Office | Strategic Advisor to Chief Veterans Experience Officer | DV230061 | 06/01/2023

The following Schedule C appointing authorities were revoked during June 2023.

Agency name | Organization name | Position title | Request No. | Vacate date
CONSUMER FINANCIAL PROTECTION BUREAU | Office of the Director | Associate Director, Consumer Education and External Affairs | FP210028 | 06/17/2023
DEPARTMENT OF AGRICULTURE | Office of Communications | Deputy Press Secretary Assistant Press Secretary | DA220001 DA220149 | 06/03/2023 06/03/2023
| Office of the Assistant Secretary for Congressional Relations | Legislative Advisor | DA220121 | 06/03/2023
| Office of the General Counsel | Confidential Assistant Senior Counselor | DA220027 DA230055 | 06/03/2023 06/03/2023
| Office of the Secretary | Director of Scheduling and Advance | DA230012 | 06/03/2023
DEPARTMENT OF COMMERCE | International Trade Administration | Senior Policy Advisor | DC230045 | 06/17/2023
| Office of Advance, Scheduling and Protocol | Associate Director for Scheduling and Advance | DC220170 | 06/17/2023
| Office of Legislative and Intergovernmental Affairs | Director of Legislative Affairs | DC220141 | 06/17/2023
| Office of Policy and Strategic Planning | Senior Policy Advisor | DC210159 | 06/03/2023
| Office of the Deputy Secretary | Special Advisor | DC230031 | 06/16/2023
DEPARTMENT OF EDUCATION | Office for Civil Rights | Confidential Assistant | DB220080 | 06/02/2023
DEPARTMENT OF ENERGY | Office of the Assistant Secretary for Congressional and Intergovernmental Affairs | Legislative Affairs Advisor (House) (2) | DE220026 DE230109 | 06/03/2023 06/17/2023
DEPARTMENT OF HEALTH AND HUMAN SERVICES | Office of Administration for Children and Families | Director of Communications | DH230189 | 06/02/2023
| Office of the Assistant Secretary for Public Affairs | Advisor, Public Education Campaign | DH220079 | 06/03/2023
|  | Press Secretary | DH220034 | 06/03/2023
DEPARTMENT OF HOMELAND SECURITY | United States Citizenship and Immigration Services | Chief Mission Operations and Engagement Officer | DM220085 | 06/18/2023
| United States Customs and Border Protection | Senior Advisor for Strategic Communication | DM210465 | 06/02/2023
DEPARTMENT OF HOUSING AND URBAN DEVELOPMENT | Office of Community Planning and Development | Policy Advisor | DU220050 | 06/17/2023
DEPARTMENT OF THE AIR FORCE | Office of Assistant Secretary of the Air Force for Manpower and Reserve Affairs | Special Assistant | DF220014 | 06/17/2023
DEPARTMENT OF TRANSPORTATION | Office of Public Affairs and Public Engagement | Digital Director | DT210105 | 06/20/2023
| Office of the Administrator | White House Liaison | EP220049 | 06/03/2023
ENVIRONMENTAL PROTECTION AGENCY | Office of the Associate Administrator for Congressional and Intergovernmental Relations | Deputy Associate Administrator for Intergovernmental Affairs | EP220057 | 06/17/2023
OFFICE OF PERSONNEL MANAGEMENT | Office of the Director | Executive Assistant to the Director | PM220045 | 06/17/2023
OFFICE OF THE SECRETARY OF DEFENSE | Office of the Assistant Secretary of Defense (Legislative Affairs) | Special Assistant | DD230112 | 06/17/2023

Authority: 5 U.S.C. 3301 and 3302; E.O. 10577, 3 CFR, 1954-1958 Comp., p. 218.

Office of Personnel Management.
Kayyonne Marston,
Federal Register Liaison.

[FR Doc. 2024-11358 Filed 5-22-24; 8:45 am]

BILLING CODE 6325-39-P